DEPARTMENT OF THE TREASURY

Office of the Comptroller of the Currency

[OCC Charter Number 703576]

Stephens Federal Bank, Toccoa, Georgia; Approval of Conversion Application

Notice is hereby given that on August 29, 2014, the Office of the Comptroller of the Currency (OCC) approved the application of Stephens Federal Bank, Toccoa, Georgia, to convert to the stock form of organization. Copies of the application are available for inspection on the OCC Web site at the FOIA Reading Room https://foia-pal.occ.gov/palMain.aspx under Mutual to Stock Conversion Applications. If you have any questions, please call OCC Licensing Activities at (202) 649-6260.

Dated: January 12, 2015.
By the Office of the Comptroller of the Currency.
Stephen A. Lybarger,
Deputy Comptroller for Licensing.

[FR Doc. 2015-00744 Filed 1-16-15; 8:45 am]

BILLING CODE P